DEPARTMENT OF THE INTERIOR

National Park Service

Notice of Intent to Repatriate Cultural Items: Museum of Northern Arizona, Flagstaff, AZ

AGENCY: National Park Service, Interior.

ACTION: Notice.

Notice is here given in accordance with the Native American Graves Protection and Repatriation Act (NAGPRA), 25 U.S.C. 3005, of the intent to repatriate cultural items in the possession of the Museum of Northern Arizona, Flagstaff, AZ, that meet the definitions of “sacred objects” and “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In January and September 2000, cultural items were gifted to the Museum of Northern Arizona by a private donor. The cultural items are Navajo sandpainting drawings and water color/pencil drawings, and are divided into three collections.

The first collection was originally collected by an old trading post family in the area of Farmington, NM. The 29 cultural items are 4 watercolors of sacred Navajo Yei figures and deities; 22 water colors and/or pencil drawings depicting Navajo ceremonial sandpaintings from specific chants; and 3 pages of hand written notes describing the Feather Way and Big Star Way ceremonies.

The second collection, by Ray Winnie, Lukachukai, AZ, circa 1920s, depicts a sacred Navajo ceremonial sandpainting. Mr. Winnie was a Singer of the Shooting Way ceremony. The one cultural item is a colored pencil drawing on brown paper.

The third collection, by Ray Winnie, Lukachukai, AZ, circa 1920s, depicts sacred Navajo ceremonial sandpaintings. Mr. Winnie was a Singer of the Shooting Way ceremony. The six cultural items consist of one notebook with pencil and crayon drawings, four color pencil drawings, and one muslin watercolor depicting Navajo ceremonies.

A traditional practitioner of Navajo religious ceremonies determined the images presented were of sacred esoteric knowledge with specific ceremonial properties that continue to be used by traditional Navajo religious practitioners. Based on the sacred esoteric knowledge of the images, the paintings could not have been obtained voluntarily nor could they have been alienated by a single individual, and instead belong to the tribe as a whole.

Officials of the Museum of Northern Arizona have determined that, pursuant to 25 U.S.C. 3001 (3)(C), the 36 cultural items described above are specific ceremonial objects needed by traditional Native American religious leaders for the practice of traditional Native American religions by their present-day adherents. Officials of the Museum of Northern Arizona also have determined that, pursuant to 25 U.S.C. 3001 (3)(D), the 36 cultural items described above have ongoing historical, traditional, or cultural importance central to the Native American group or culture itself, rather than property owned by an individual. Lastly, officials of the Museum of Northern Arizona have determined that, pursuant to 25 U.S.C. 3001 (2), there is a relationship of shared group identity that can be reasonably traced between the sacred objects/objects of cultural patrimony and the Navajo Nation, Arizona, New Mexico & Utah.

Representatives of any other Indian tribe that believes itself to be culturally affiliated with the sacred objects/objects of cultural patrimony should contact Elaine Hughes, NAGPRA Contact, Museum of Northern Arizona, 3101 N. Ft. Valley Road, Flagstaff, AZ 86004, telephone (928) 774-5211, ext. 270, before April 12, 2010. Repatriation of the sacred objects/objects of cultural patrimony to the Navajo Nation, Arizona, New Mexico & Utah may proceed after that date if no additional claimants come forward.

The Museum of Northern Arizona is responsible for notifying the Navajo Nation, Arizona, New Mexico & Utah that this notice has been published.

Dated: December 10, 2010
Richard C. Waldbauer,
Acting Manager, National NAGPRA Program.

[FR Doc. 2010-5167 Filed 3-10-10; 8:45 am]

BILLING CODE 4312-50-S